DEPARTMENT OF COMMERCE

National Oceanic and Atmospheric Administration

[RTID-0648-XV175]

Strategy for Mapping, Exploring, and Characterizing the U.S. Exclusive Economic Zone

AGENCY: National Oceanic and Atmospheric Administration.

ACTION: Notice; request for information.

SUMMARY: On behalf of the Ocean Policy Committee, Ocean Science and Technology Subcommittee and the Office of Science and Technology Policy (OSTP) and the Council on Environmental Quality (CEQ) as Co-Chairs of the Ocean Policy Committee, the National Oceanic and Atmospheric Administration (NOAA) requests input from all interested parties on the development of a National Strategy for Mapping, Exploring, and Characterizing the United States Exclusive Economic Zone (U.S. EEZ). Through this Request for Information (RFI), the Ocean Policy Committee seeks input from the public on ways to map, explore, and characterize the U.S. EEZ; that is, to reveal the terrain of the ocean floor and identify areas of particular interest, and to identify and evaluate natural and cultural resources within these areas. The public input provided in response to this RFI will inform the Ocean Policy Committee as it works with Federal agencies and other stakeholders to develop the strategy.

DATES: Interested persons are invited to submit comments on or before March 12, 2020.

ADDRESSES: Responses should be submitted via email to oceanmapping@ostp.eop.gov. Include “RFI Response: National Strategy for Mapping, Exploring, and Characterizing the U.S. EEZ” in the subject line of the message.

Instructions: Response to this RFI is voluntary. Respondents need not reply to all questions listed. For all submissions, clearly indicate which questions are being answered. Email attachments will be accepted in plain text, Microsoft Word, or Adobe PDF formats only. Each individual or institution is requested to submit only one response. OSTP may post responses to this RFI, without change, on a Federal website. NOAA, therefore, requests that no business proprietary information, copyrighted information, or personally identifiable information be submitted in response to this RFI. Please note that the U.S. Government will not pay for response preparation, or for the use of any information contained in the response.

FOR FURTHER INFORMATION CONTACT: Kris Dellapina, OSTP, 202 456-6038.

SUPPLEMENTARY INFORMATION: Presidential Memorandum, Ocean Mapping of the United States Exclusive Economic Zone and the Shoreline and Nearshore of Alaska, 84 FR 64699 (Nov. 19, 2019), directs the Director of the OSTP and the Chairman of the CEQ, in their capacity as Co-Chairs of the Ocean Policy Committee, to coordinate the development of a national strategy for mapping, exploring, and characterizing the U.S. EEZ. Pursuant to this requirement, the Ocean Policy Committee, through its Ocean Science and Technology Subcommittee and in coordination with the Administrator of NOAA, seeks to develop a proposed strategy (“Strategy”) to map the U.S. EEZ, identify priority areas within the U.S. EEZ, and explore and characterize the priority areas. The Ocean Policy Committee has commenced development of the Strategy and is soliciting public input through this RFI to obtain information from a wide range of stakeholders, including academia, private industry, and other relevant organizations and institutions. The public input provided in response to this RFI will inform the Ocean Policy Committee as it continues to develop the Strategy.

Questions To Inform Development of the Strategy

Through this RFI, the Ocean Policy Committee seeks responses to the following questions to inform development of a national strategy for ocean mapping, exploration, and characterization.

1. Given the tools, platforms, and technologies of which you are aware, what is the most effective approach for mapping the remaining unmapped portions of the U.S. EEZ? How should areas be prioritized for mapping?

2. What innovative tools, platforms, and technologies could advance our capability to map, explore, and characterize the U.S. EEZ more efficiently and effectively? To the extent innovative capabilities already exist, but are not being effectively used, what are the barriers to adopting them? How can these barriers be overcome?

3. Given the tools, platforms, and technologies of which you are aware, what is the most effective approach for exploring and characterizing priority areas of the U.S. EEZ?

4. What selection criteria should inform the determination of priority areas of the U.S. EEZ for exploration and characterization?

5. How can public-private partnerships be utilized to effectively implement the Strategy?

6. Which Federal programs are best positioned to support public-private partnerships to advance ocean exploration, mapping, and characterization? What changes are needed, if any, to these programs to improve their effectiveness?

7. How should the data generated by the Strategy be managed so that it is most useful to public and private sectors?

8. Is there any additional information related to mapping, exploring, and characterizing the U.S. EEZ, not requested above, that you believe the Ocean Policy Committee should consider?

Dated: February 3, 2020.
Timothy C. Gallaudet,
Assistant Secretary of Commerce for Oceans and Atmosphere, Deputy NOAA Administrator, Department of Commerce.

[FR Doc. 2020-02626 Filed 2-10-20; 8:45 am]

BILLING CODE 3270-F8-P